DEPARTMENT OF THE INTERIOR

National Park Service

National Register of Historic Places; Notification of Pending Nominations and Related Actions

Nominations for the following properties being considered for listing or related actions in the National Register were received by the National Park Service before June 9, 2007. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St. NW., 8th floor, Washington, DC 20005; or by fax, 202-371-6447. Written or faxed comments should be submitted by July 10, 2007.

J. Paul Loether,
Chief, National Register of Historic Places/National Historic Landmarks Program.

CALIFORNIA

Tuolumne County

Tuolumne County Courthouse (Boundary Increase), Bounded by N Washington St., W Yaney Ave., N Green St. & W Jackson St., Sonora, 07000695

COLORADO

Larimer County

East Longs Peak Trail—Longs Peak Trail—Keyhole Route—Shelf Trail, (Rocky Mountain National Park MPS) W of CO 7, Allenspark, 07000740

Morgan County

Rankin Presbyterian Church, 420 Clayton St., Brush, 07000696

CONNECTICUT

Hartford County

Trinity Methodist Episcopal Church, 69 Main St., New Britain, 07000697

FLORIDA

Highlands County

Archbold Biological Station at Red Hill, 123 Main Dr., Venus, 07000698

GEORGIA

Muscogee County

Columbus Manufacturing Company, 3201 1st Av., Columbus, 07000699

Walker County

Chickamauga Historic District, Roughly centered on Cove Rd. and bounded by Crescent, Pearl, & 6th Sts. and the Central of Georgia RR, Chickamauga, 07000700

ILLINOIS

Piatt County

Allerton, Robert, Estate, 515 Old Timber Rd., Monticello, 07000701

MISSOURI

Jackson County

Stenzel, R.O. & Company, Warehouse, (Railroad Related Historic Commercial and Industrial Resources in Kansas City, Missouri MPS) 1811 Walnut, Kansas City, 07000702

St. Louis Independent city Harrison School, 4224 Fair Av., St. Louis, 07000703

Holly Place Historic District, 4500 Blk. of Holly Place, St. Louis, 07000704

Plaza Square Apartments Historic District, Bounded by 15th, Olive, 17th & Chestnut Sts., St. Louis, 07000705

TENNESSEE

Hardeman County

Pocahontas School, 22555 TN 57, Pocahontas, 07000706

WASHINGTON

Clallam County

Altair Campground Community Kitchen, (Olympic National Park MPS) Approx. 4 mi. S of U.S. 101, Port Angeles, 07000732

Botten Cabin, (Olympic National Park MPS) 20.9 mi. from Whiskey Bend Trailhead on the Elwha River Trail, Port Angeles, 07000729

Canyon Creek Shelter, (Olympic National Park MPS) Approx. 9 mi. N of the Upper Sol Duc River Trailhead, Port Angeles, 07000712

Dodger Point Fire Lookout, (Olympic National Park MPS) Approx. 13 mi. along Dodger Point Trail starting at the Whiskey Bend Trail Port Angeles, 07000736

Eagle Ranger Station, (Olympic National Park MPS) Approx. 11.6 mi. S of WA 101 on Upper Sol Duc Rd., Port Angeles, 07000713

Elk Lick Lodge, (Olympic National Park MPS) 13 mi. from Whiskey Bend Trailhead on the Elwha River Trail, Port Angeles, 07000734

Elkhorn Guard Station, (Olympic National Park MPS) Approx. 11.5 mi. along Elwha River Trail from the Whiskey Bend Trailhead, Port Angeles, 07000714

Elwha Campground Community Kitchen, (Olympic National Park MPS) 3 mi S of U.S. 101, Port Angeles, 07000735

Elwha Ranger Station, (Olympic National Park MPS) Approx. 3 mi. SE of WA 101 on the Olympic Hot Springs Rd., Port Angeles, 07000716

Fifteen Mile Shelter, (Olympic National Park MPS) Approx. 12.4 mi. from park boundary on N Fork Bogachiel R Trail, Port Angeles, 07000715

Hayes River Fire Cache, (Olympic National Park MPS) Approx. 16.8 mi. up the Elwha River Trail, Port Angeles, 07000738

Humes Ranch Cabin (Boundary Increase), (Olympic National Park MPS) 2.5 mi. from the Whiskey Bend Trailhead, Port Angeles, 07000731

Hyak Shelter, (Olympic National Park MPS) Approx. 15.4 mi. from park boundary on N Fork Bogachiel River Trail, Port Angeles, 07000721

Michael's Cabin, (Olympic National Park MPS) Along Elwha River Trail; approx. 2 mi. from Whiskey Bend Trailhead, Port Angeles, 07000733

North Fork Sol Duc Shelter, (Olympic National Park MPS) Approx. 9.5 mi. from North Fork Sol Duc Trailhead, Port Angeles, 07000725

Olympic National Park Headquarters Historic District, (Olympic National Park MPS) 600 E. Park Ave., Port Angeles, 07000720

Pyramid Peak Aircraft Warning Service Lookout, (Olympic National Park MPS) 3.5 miles up Pyramid Pk. trail at end of Camp David Jr. Rd., Port Angeles, 07000726

Roose, Peter, Homestead, (Olympic National Park MPS) Along Indian Village Trail; approx. 1.5 mi. N of trailhead, Port Angeles, 07000723

Singer's Lake Crescent Tavern, (Olympic National Park MPS) Barnes Point, S. Shore of Lake Crescent, WA 101, Port Angeles, 07000724

Storm King Ranger Station, (Olympic National Park MPS) Barnes Pt., S side of Lake Crescent off U.S. 101, Port Angeles, 07000730

Three Forks Shelter, (Olympic National Park MPS) Approx. 4.5 mi. from the Three Fords Trailhead at Deer Park Campground, Port Angeles, 07000728

Wendel Property, (Olympic National Park MPS) 5 mi. N on East Shore Rd., Port Angeles, 07000739

Grays Harbor County Kestner Homestead, (Olympic National Park MPS) N side of Quinault R., Port Angeles, 07000741

Jefferson County

Enchanted Valley Chalet, (Olympic National Park MPS) 13 mi. upriver from Graves Cr. Trailhead, Port Angeles, 07000737

Graves Creek Ranger Station, (Olympic National Park MPS) Approx. 22 mi. NE of WA 101 on Quinault River Rd., Port Angeles, 07000717

Happy Four Shelter, (Olympic National Park MPS) Approx. 5.4 along Hoh River Trail, Port Angeles, 07000719

North Fork Quinault Ranger Station, (Olympic National Park MPS) Approx. 18 mi. NE of WA 101 on N. Fork Rd. off N. Shore Quinault Rd., Port Angeles, 07000718

Olympus Guard Station, (Olympic National Park MPS) Approx. 9 mi. from Hoh River Trailhead at Hoh Ranger Station, Port Angeles, 07000722

Pelton Creek Shelter, (Olympic National Park MPS) Approx. 15.5 mi. up the Queets River Trail, Port Angeles, 07000727

WISCONSIN

Brown County

North Michigan Street—North Superior Street Historic District, Roughly bounded by Ridgeview Bvd., N Wisconsin, N Huron & George Sts., De Pere, 07000707

Grant County

Bayley Avenue Historic District, 100-400 Bayley Av., 400 Blk. S Court St., 150, 210, 270 Rountree Av. & 65 Mitchell Av., Platteville, 07000708

Division Street Historic District, 200-300 Blk. Division St., 145, 170, 175, 190, 195, 220 S Chestnut St., Platteville, 07000709

West Main Street Historic District, Roughly bounded by N & S Elm, W Pine, N & S Hickory & W Mineral Sts., Platteville, 07000710

Polk County

St. Croix Falls Auditorium, 201 N Washington St, St. Croix Falls, 07000711

[FR Doc. E7-12169 Filed 6-22-07; 8:45 am]

BILLING CODE 4312-51-P